DEPARTMENT OF THE INTERIOR

Fish and Wildlife Service

[FWS-R4-ES-2014-N074: FXES11120400000-145-FF04EF2000]

Endangered and Threatened Wildlife and Plants; Receipt of Application for Incidental Take Permit; Availability of Proposed Low-Effect Habitat Conservation Plan and Associated Documents; Charlotte County, Florida

AGENCY: Fish and Wildlife Service, Interior.

ACTION: Notice of availability; request for comment/information.

SUMMARY: We, the Fish and Wildlife Service (Service), announce the availability of an incidental take permit (ITP) application and Habitat Conservation Plan (HCP). Troy Powell (applicant) requests an ITP under the Endangered Species Act of 1973, as amended (Act). The applicant anticipates taking about 1.0 acre of foraging, breeding, and sheltering habitat used by the Florida scrub-jay (Aphelocoma coerulescens) (scrub-jay) incidental to land preparation and for the construction of a single-family residence, barn, and associated infrastructure in Charlotte County, Florida. The applicant's HCP describes the minimization and mitigation measures proposed to address the effects of the project on the scrub-jay.

DATES: Written comments on the ITP application and HCP should be sent to the South Florida Ecological Services Office (see ADDRESSES) and should be received on or before June 5, 2014.

ADDRESSES: See the SUPPLEMENTARY INFORMATION section below for information on how to submit your comments on the ITP application and HCP. You may obtain a copy of the ITP application and HCP by writing the South Florida Ecological Services Office, Attn: Permit number TE31192B-0, U.S. Fish and Wildlife Service, 1339 20th Street, Vero Beach, FL 32960-3559. In addition, we will make the ITP application and HCP available for public inspection by appointment during normal business hours at the above address.

FOR FURTHER INFORMATION CONTACT: Mr. Brian Powell, Fish and Wildlife Biologist, South Florida Ecological Services Office (see ADDRESSES); telephone: 772-469 -4315.

SUPPLEMENTARY INFORMATION:

Submitting Comments

If you wish to comment on the ITP application and HCP, you may submit comments by any one of the following methods:

E-Mail: Brian _Powell@fws.gov. Use Attn: Permit number “TE31192B-0” as your message subject line.

Fax: Brian Powell, 772-562-4288, Attn.: Permit number “TE31192B-0”.

U. S. Mail: Brian Powell, South Florida Ecological Services Field Office, Attn: Permit number “TE31192B-0,” U.S. Fish and Wildlife Service, 1339 20th Street, Vero Beach, FL 32960-3559.

In-person drop-off: You may drop off comments or request information during regular business hours at the above office address.

Public Availability of Comments

Before including your address, phone number, email address, or other personal identifying information in your comments, you should be aware that your entire comment—including your personal identifying information—may be made publicly available at any time. While you can ask us in your comment to withhold your personal identifying information from public review, we cannot guarantee that we will be able to do so.

Applicant's Proposed Project

We received an application for an incidental take permit, along with a proposed habitat conservation plan. The applicant requests a 5-year permit under section 10(a)(1)(B) of the Act (16 U.S.C. 1531 et seq.). If we approve the permit, the applicant anticipates taking 1.0 acre of Florida scrub-jay breeding, feeding, and sheltering habitat for construction of a single family residence, barn, and associated infrastructure. The project is located on parcel 402413201002 at latitude 27.003182, longitude -81.865925, Charlotte County, Florida.

The applicant proposes to mitigate for the loss of 1.0 acres of occupied scrub-jay habitat by onsite establishment of a 2.51 acre conservation easement to be managed by Charlotte Harbor Environmental Center, along with a fee of $7,500 for perpetual maintenance of the donated land, within 30 days of permit issuance.

Our Preliminary Determination

The Service has made a preliminary determination that the applicant's project, including the proposed mitigation and minimization measures, will individually and cumulatively, have a minor or negligible effect on the species covered in the HCP. Therefore, issuance of the ITP is a “low-effect” action and qualifies as a categorical exclusion under the National Environmental Policy Act (NEPA) (40 CFR 1506.6), as provided by the Department of the Interior Manual (516 DM 2 Appendix 1 and 516 DM 6 Appendix 1), and as defined in our Habitat Conservation Planning Handbook (November 1996).

We base our determination that issuance of the ITP qualifies as a low-effect action on the following three criteria: (1) Implementation of the project would result in minor or negligible effects on federally listed, proposed, and candidate species and their habitats; (2) Implementation of the project would result in minor or negligible effects on other environmental values or resources; and (3) Impacts of the plan, considered together with the impacts of other past, present, and reasonably foreseeable similarly situated projects, would not result, over time, in cumulative effects to environmental values or resources that would be considered significant. As more fully explained in our environmental action statement and associated Low-Effect Screening Form, the applicant's proposed project qualifies as a “low-effect” project. This preliminary determination may be revised based on our review of public comments that we receive in response to this notice.

Next Steps

The Service will evaluate the HCP and comments submitted thereon to determine whether the application meets the requirements of section 10(a) of the Act. The Service will also evaluate whether issuance of the section 10(a)(1)(B) ITP complies with section 7 of the Act by conducting an intra-Service section 7 consultation. The results of this consultation, in combination with the above findings, will be used in the final analysis to determine whether or not to issue the ITP. If it is determined that the requirements of the Act are met, the ITP will be issued for the incidental take of the Florida scrub-jay.

Authority

We provide this notice under Section 10 of the Endangered Species Act (16 U.S.C. 1531 et seq.) and NEPA regulations (40 CFR 1506.6).

Dated: April 29, 2014.
Craig Aubrey,
Field Supervisor, South Florida Ecological Services Office.

[FR Doc. 2014-10334 Filed 5-5-14; 8:45 am]

BILLING CODE 4310-55-P